CIVIL RIGHTS COMMISSION

Sunshine Act Meeting

Agency: Commission on Civil Rights.

Date and Time: Friday, May 17, 2002, 9:30 a.m.

Place: U.S. Commission on Civil Rights, 624 Ninth Street, NW., Room 540, Washington, DC 20425.

Status:

Agenda

I. Approval of Agenda

II. Approval of Minutes of April 12, 2002 Meeting

III. Announcements

IV. Staff Director's Report

V. State Advisory Committee Appointments for Arizona, Hawaii, Idaho, Kentucky, Oregon, and New York, and Approval of SAC the Chair for Washington State

VI. State Advisory Committee Report

• Race Relations in Waterloo

VII. Future Agenda Items

10:30 a.m. Briefing: Enforcement without Evidence? Consequences of Government Race Data Collection Bans of Civil Rights

CONTACT PERSON FOR FURTHER INFORMATION: Les Jin, Press and Communications (202) 376-7700.

Debra A. Carr,
Deputy General Counsel.

[FR Doc. 02-11811 Filed 5-7-02; 4:29 am]

BILLING CODE 6335-01-M